NATIONAL SCIENCE FOUNDATION

National Science Board; Sunshine Act Meetings; Notice

The National Science Board's Subcommittee on Facilities of the Committee on Strategy and Budget, pursuant to NSF regulations (45 CFR part 614), the National Science Foundation Act, as amended (42 U.S.C. 1862n-5), and the Government in the Sunshine Act (5 U.S.C. 552b), hereby gives notice in regard to the scheduling of a teleconference for the transaction of National Science Board business and other matters specified, as follows:

DATE & TIME: Monday, August 5, 2013, from 2:00-3:00 p.m. EDT.

SUBJECT MATTER: (1) Chairman's opening remarks; (2) organize and plan activities for the August Board meeting; (3) review background materials for the Annual Portfolio Review (APR); and (4) receive an update on the APR .

STATUS: Open.

LOCATION: This meeting will be held by teleconference at the National Science Board Office, National Science Foundation, 4201Wilson Blvd., Arlington, VA 22230. A public listening line will be available. Members of the public must contact the Board Office [call 703-292-7000 or send an email message to nationalsciencebrd@nsf.gov] at least 24 hours prior to the teleconference for the public listening number.

UPDATES & POINT OF CONTACT: Please refer to the National Science Board Web site www.nsf.gov/nsb for additional information. Meeting information and updates (time, place, subject matter or status of meeting) may be found at http://www.nsf.gov/nsb/notices/. Point of contact for this meeting is: John Veysey, 4201Wilson Blvd., Arlington, VA 22230. Telephone: (703) 292-4527.

Ann Bushmiller,
Senior Counsel to the National Science Board.

[FR Doc. 2013-18324 Filed 7-26-13; 11:15 am]

BILLING CODE 7555-01-P